DEPARTMENT OF COMMERCE

International Trade Administration

[A-570-815, A-533-806, C-533-807]

Antidumping Duty Orders on Sulfanilic Acid From India and the People's Republic of China and Countervailing Duty Order on Sulfanilic Acid From India: Final Results of Sunset Reviews and Revocation of Orders

AGENCY: Enforcement and Compliance, International Trade Administration, Department of Commerce.

SUMMARY: On April 1, 2022, the U.S. Department of Commerce (Commerce) initiated the fifth sunset reviews of the antidumping duty (AD) orders on sulfanilic acid from India and the People's Republic of China (China) and the countervailing duty (CVD) order on sulfanilic acid from India. Because no domestic interested party filed a timely notice of intent to participate in these sunset reviews, Commerce is revoking the AD orders on sulfanilic acid from India and China and the CVD order on sulfanilic acid from India.

DATES: Applicable May 9, 2022.

FOR FURTHER INFORMATION CONTACT: Brendan Quinn, AD/CVD Operations, Office III, Enforcement and Compliance, International Trade Administration, U.S. Department of Commerce, 1401 Constitution Avenue NW, Washington, DC 20230; telephone: (202) 482-5848.

SUPPLEMENTARY INFORMATION:

Background

On August 19, 1992, Commerce issued the AD order on sulfanilic acid from China ¹ and on March 2, 1993, Commerce issued the AD and CVD orders on sulfanilic acid from India ² (collectively, the Orders). On May 9, 2017, Commerce published the most recent continuation of the Orders.³ On April 1, 2022, Commerce initiated the current sunset reviews of the Orders pursuant to section 751(c) of the Tariff Act of 1930, as amended (the Act) and 19 CFR 351.218(c).⁴

¹ See Antidumping Duty Order: Sulfanilic Acid from the People's Republic from China, 57 FR 37524 (August 19, 1992).

² See Antidumping Duty Order: Sulfanilic Acid from India, 58 FR 12025 (March 2, 1993); see also Countervailing Duty Order: Sulfanilic Acid from India, 58 FR 12026 (March 2, 1993).

³ See Sulfanilic Acid from India and the People's Republic of China: Continuation of Antidumping Duty and Countervailing Duty Orders, 82 FR 21520 (May 9, 2017) (2017 Continuation Notice).

⁴ See Initiation of Five-Year (Sunset) Reviews, 87 FR 19069 (April 1, 2022) (Initiation Notice).

We did not receive a timely notice of intent to participate in these sunset reviews from any domestic interested party within fifteen days ⁵ of the publication of the Initiation Notice in the Federal Register, in accordance with 19 CFR 351.218(d)(1)(i).⁶ Pursuant to 19 CFR 351.218(d)(1)(iii)(A), a domestic interested party that does not file a notice of intent to participate in the sunset review will be considered not willing to participate in the review. As a result, pursuant to 19 CFR 351.218(d)(1)(iii)(B)(1), Commerce concludes that no domestic interested party responded to the notice of initiation under section 751(c)(3)(A) of the Act. On April 22, 2022, Commerce notified the U.S. International Trade Commission (ITC) in writing that we intended to revoke the Orders, consistent with 19 CFR 351.218(d)(1)(iii)(B).⁷

⁵ The fifteen-day deadline fell on Saturday, April 16, 2022. Commerce's practice dictates that where a deadline falls on a weekend or federal holiday, the appropriate deadline is the next business day, in this case Monday, April 18, 2022. See Notice of Clarification: Application of “Next Business Day” Rule for Administrative Determination Deadlines Pursuant to the Tariff Act of 1930, As Amended, 70 FR 24533 (May 10, 2005).

⁶ On April 22, 2022, the domestic interested party attempted to file an untimely notice of intent to participate in these sunset reviews, which Commerce rejected as untimely. See Commerce's Letter, “Five-Year (`Sunset') Review of the Antidumping Duty Orders on Sulfanilic Acid from India and the People's Republic of China and Countervailing Duty Order on Sulfanilic Acid from India: Rejection of Notice of Intent to Participate,” dated April 29, 2022.

⁷ See Commerce's Letter, “Sunset Reviews for April 1, 2022,” dated April 22, 2022.

Scope of the Orders

Imports covered by the Orders are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (HTS), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of these proceedings is dispositive.

Revocation

Pursuant to section 751(c)(3)(A) of the Act and 19 CFR 351.218(d)(1)(iii)(B)(3), if no domestic interested party responds to a notice of initiation, Commerce shall, within 90 days after the initiation of review, revoke the order. Because no domestic interested party timely filed a notice of intent to participate in these sunset reviews, we determine that no domestic interested party is participating in these sunset reviews. Therefore, consistent with the section 751(c)(3)(A) of the Act, 19 CFR 351.218(d)(1)(iii)(B)(3), and 19 CFR 351.222(i)(1)(i), we are revoking the Orders.

Effective Date of Revocation

Pursuant to section 751(c)(3)(A) of the Act and 19 CFR 351.222(i)(2)(i), Commerce intends to instruct CBP to terminate the suspension of liquidation of the merchandise subject to the Orders entered, or withdrawn from the warehouse, on or after May 9, 2022, the fifth anniversary of the date of publication of the last continuation notice of the Orders.⁸ Entries of subject merchandise prior to the effective date of revocation will continue to be subject to suspension of liquidation and AD and CVD deposit requirements. Commerce will conduct administrative reviews of subject merchandise entered prior to the effective date of revocation in response to appropriately filed requests for reviews.

⁸ See 2017 Continuation Notice.

Notification to Interested Parties

We are issuing and publishing these final results in accordance with sections 751(c) and 777(i)(1) of the Act, and 19 CFR 351.218(d)(1)(iii)(B)(3) and 19 CFR 351.222(i)(1)(1).

Dated: June 7, 2022.
Lisa W. Wang,
Assistant Secretary for Enforcement and Compliance.

[FR Doc. 2022-12790 Filed 6-13-22; 8:45 am]

BILLING CODE 3510-DS-P